DEPARTMENT OF ENERGY

Federal Energy Regulatory Commission

[Docket No. AD08-11-000]

Ensuring Dam Safety in the United States; Notice of Technical Conference

October 29, 2008.

Take notice that the Federal Energy Regulatory Commission will hold a technical conference on December 5, 2008, from 9 a.m. to 1 p.m. (EST) in the Commission Meeting Room at the Federal Energy Regulatory Commission, 888 First Street, NE., Washington, DC 20426. The conference will be open for the public to attend and advance registration is not required. Members of the Commission will attend and participate in the conference.

The purpose of this conference is to explore issues related to dam safety with federal, state and industry dam safety representatives. Specifically, the participants will discuss the major components of the FERC Dam Safety Program as well as current state and industry assistance efforts. They will also explore the challenges facing state dam safety offices to identify needed technical and resource assistance. The agenda for this conference will published at a later time.

A free Webcast of this event is available through http://www.ferc.gov. Anyone with Internet access who desires to view this event can do so by navigating to the Calendar of Events at http://www.ferc.gov and locating this event in the Calendar. The event will contain a link to its Webcast. The Capitol Connection provides technical support for the free Webcasts. It also offers access to this event via television in the Washington, DC area and via phone-bridge for a fee. If you have any questions, visit http://www.CapitolConnection.org or contact Danelle Perkowski or David Reininger at (703) 993-3100.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or (202) 208-1659 (TTY), or send a FAX to 202-208-2106 with the required accommodations.

For more information about this conference, please contact: Natalie Leech, (202) 502-6396, natalie.leech@ferc.gov or Sarah McKinley, (202) 502-8368, sarah.mckinley@ferc.gov.

Kimberly D. Bose,
Secretary.

[FR Doc. E8-26257 Filed 11-3-08; 8:45 am]

BILLING CODE 6717-01-P